DEPARTMENT OF THE INTERIOR

Bureau of Land Management

[WO-320-1320-PB-24 1A]

Extension of Approved Information Collection, OMB Control Number 1004-0073

AGENCY: Bureau of Land Management, Interior.

ACTION: Notice and request for comments.

SUMMARY: In accordance with the Paperwork Reduction Act of 1995, the Bureau of Land Management (BLM) requests the Office of Management and Budget (OMB) to extend an existing approval to collect information from any person, association, corporation, subsidiary, or affiliate interested in leasing or developing Federal coal. The BLM uses the information to determine if the applicant is qualified to hold a Federal coal lease.

DATES: You must submit your comments to BLM at the address below on or before May 5, 2006. BLM will not necessarily consider any comments received after the above date.

ADDRESSES: You may mail comments to: Regulatory Affairs Group (WO-630), Eastern States Office, 7450 Boston Blvd., Springfield, Virginia 22153.

You may send comments via Internet to: comments_washington@blm.gov. Please include “ATTN: 1004-0073” and your name and address with your comments.

You may deliver comments to the Bureau of Land Management, Administrative Record, Room 401, 1620 L Street, NW., Washington, DC.

Comments will be available for public review at the L Street address during regular business hours (7:45 a.m. to 4:15 p.m.) Monday through Friday.

FOR FURTHER INFORMATION CONTACT: You may contact William Radden Lesage, Solid Minerals Group, on (202) 452-0360 (Commercial or FTS). Persons who use a telecommunication device for the deaf (TDD) may call the Federal Information Relay Service (FIRS) on 1-800-877-8330, 24 hours a day, seven days a week, to contact Mr. Lesage.

SUPPLEMENTARY INFORMATION: 5 CFR 1320.12(a) requires that we provide a 60-day notice in the Federal Register concerning a collection of information to solicit comments on:

(a) Whether the collection of information is necessary for the proper functioning of the agency, including whether the information will have practical utility.

(b) The accuracy of our estimates of the information collection burden, including the validity of the methodology and assumptions we use;

(c) Ways to enhance the quality, utility, and clarity of the information collected; and

(d) Ways to minimize the information collection burden on those who are to respond, including the use of appropriate automated, electronic, mechanical, or other technological collection techniques or other forms of information technology.

BLM manages the leasing and development of Federal coal under the regulations at 43 CFR Group 3400. These regulations implement numerous statutes including:

(1) The Mineral Leasing Act of 1920;

(2) The 1976 coal amendments (30 U.S.C. 181 et seq.);

(3) The Mineral Leasing Act for Acquired Lands of 1947 (30 U.S.C. 351-359);

(4) The Federal Land Policy and Management Act of 1976 (43 U.S.C. 1761 et seq.);

(5) The Surface Mining Control and Reclamation Act of 1977 (30 U.S.C. 1201 et seq.);

(6) The Multiple Mineral Development Act of 1954 (30 U.S.C. 521-531);

(7) The National Environmental Policy Act of 1969 (42 U.S.C. 4321 et seq.); and

(8) The Act of October 30, 1978 (92 Stat. 2073-2075).

BLM uses the information provided by the applicant(s) on BLM Forms 3400-12 and 3440-1 to determine if the applicant to lease or develop Federal coal is qualified to hold such a lease.

Based on BLM's experience administering the activities described below, we estimate the public reporting burden for the information collected is 20 hours and 15 minutes per response and the total annual burden is 25,585 hours. We estimate the number of responses per year is 1,289. The respondents are applicants to lease or develop Federal coal and vary from individuals to small businesses and major corporations. BLM is specifically requesting your comments on its estimate of the amount of time that it takes to prepare a response.

Type of Application | 43 CFR | Hours per response | Number of responses | Total hours
Application for an exploration license | 3410.2-1 | 36 | 10 | 360
Issuance and termination of an exploration license | 3410.3-1 | 12 | 5 | 60
Operations under and modification of an exploration license | 3410.3-3 | 1 | 1 | 1
Collection and submission of data from an exploration license | 3410.4 | 18 | 5 | 90
Call for coal resource and other resource info | 3420.1-2 | 3 | 0 | 0
Surface owner consultation | 3420.1-4 | 1 | 7 | 7
Expressions of leasing interest | 3420.3-2 | 7 | 0 | 0
Response to notice of sale | 3422.2 | 56 | 8 | 448
Consultation with Attorney General | 3422.3-4 | 4 | 7 | 28
Leasing on application | 3425 | 308 | 15 | 4,620
Surface owner consent | 3427.2(c) | 1 | 7 | 7
Preference right lease application | 3430.3-1, 3430.4-1 | 800 | 3 | 2,400
Lease modifications | 3432.1 | 12 | 5 | 60
License to mine | 3440 | 21 | 2 | 42
Relinquishments | 3452.1-1, 3452.1-2 | 18 | 30 | 540
Transfers, assignments, subleases | 3453.2-1 | 10 | 43 | 430
Bonds | 3410.3-4, 3453.2-4, 3474.1, 3474.2 | 8 | 196 | 1,568
Land description requirements | 3471.1-1 | 2 | 15 | 30
Future interest lease application | 3471.4 | 16 | 0 | 0
Special leasing qualifications | 3472.1-2 | 3 | 4 | 12
Qualification statement | 3472.2 | 3 | 4 | 12
Lease rental and royalty rate reductions | 3473.3-4 | 13 | 9 | 117
Lease suspensions | 3473.4, 3483.3 | 20 | 7 | 140
Lease form | 3475.1 | 1 | 12 | 12
Logical mining units | 3475.6, 3481.2, 3487 | 170 | 5 | 850
General obligations of the operator/lessee | 3481.1 | 1 | 1 | 1
Exploration plans | 3482.1(a) | 30 | 11 | 330
Resource recovery and protection plan | 3482.1(b) | 192 | 4 | 768
Modifications to exploration plans and resource recovery and protection plans | 3482.2 | 16 | 79 | 1,264
Mining operations maps | 3482.3 | 20 | 311 | 6,220
Request for payment of advance royalty in lieu of continued operation | 3483.4 | 22 | 12 | 264
Performance standards for exploration (Retention of samples) | 3484.1(a) | 1 | 22 | 22
Performance standards for surface and underground coal mines | 3484.1(b) | 1 | 6 | 6
Exploration reports | 3485.1(a), 3485.1(b), 3485.1(c) | 4 | 7 | 28
Production reports | 3485.1(d), 3485.3 | 10 | 323 | 3,230
Notices and orders | 3486.2 | 3 | 1 | 3
Enforcement | 3486.3 | 2 | 8 | 16

Any member of the public may request and obtain, without charge, a copy of the BLM Forms 3400-12 and 3440-1 by contacting the person identified under FOR FURTHER INFORMATION CONTACT.

BLM will summarize all responses to this notice and include them in the request for OMB approval. All comments will be a matter of a public record.

Dated: February 28, 2006
Ted R. Hudson,
Bureau of Land Management, Information Collection Clearance Officer.

[FR Doc. 06-2066 Filed 3-3-06; 8:45 am]

BILLING CODE 4310-84-M